DEPARTMENT OF COMMERCE

Foreign-Trade Zones Board

[B-5-2014]

Foreign-Trade Zone 230—Piedmont Triad Area, North Carolina; Authorization of Production Activity; Oracle Flexible Packaging, Inc. (Foil-Backed Paperboard); Winston-Salem, North Carolina

On January 6, 2014, the Piedmont Triad Partnership, grantee of FTZ 230, submitted a notification of proposed production activity to the Foreign-Trade Zones (FTZ) Board on behalf of Oracle Flexible Packaging, Inc., in Winston-Salem, North Carolina.

The notification was processed in accordance with the regulations of the FTZ Board (15 CFR part 400), including notice in the Federal Register inviting public comment (79 FR 6146, 2-3-2014). The FTZ Board has determined that no further review of the activity is warranted at this time. The production activity described in the notification is authorized, subject to the FTZ Act and the FTZ Board's regulations.

Dated: May 6, 2014.
Elizabeth Whiteman,
Acting Executive Secretary.

[FR Doc. 2014-10854 Filed 5-9-14; 8:45 am]

BILLING CODE 3510-DS-P